DEPARTMENT OF AGRICULTURE

Rural Business-Cooperative Service

Advance Request for Proposals (Advance RFP) Inviting Applications for Agriculture Innovation Center Demonstration Program Grants

AGENCY: Rural Business-Cooperative Service, USDA.

ACTION: Notice.

SUMMARY: The Rural Business-Cooperative Service (RBS or Agency) provides advance notice of the possible availability of up to $10,000,000 in fiscal year (FY) 2003 to fund the establishment of agriculture innovation centers that are to provide assistance to agriculture producers in the development of value-added businesses. Availability of FY 2003 funding is contingent on the publication of the final Agriculture Innovation Centers grant regulation in FY 2003 with sufficient time for applications to be submitted and acted on by the Agency during FY 2003. We anticipate that the publication date for the related final rule will provide a very limited amount of time to submit applications.

Accordingly, this Advance RFP lists the information needed to submit an application for these funds to the extent the details can be provided today; the deadline for receipt and any substantive changes required by the final rule will be the subject of a future notice published as part of the final rule or in a contemporaneously published notice.

DATES: The deadline for receipt of an application is 4 p.m. e.s.t. on date which is five days after the publication date of the related final Agriculture Innovation Center rule in the Federal Register.

ADDRESSES: Hand-delivered applications or applications submitted using an express mail or overnight courier service should be sent to: Marc Warman, USDA Rural Business-Cooperative Service, 1400 Independence Ave., SW., Room 4016, Washington, DC 20250; Telephone: (202) 720-8460. Applications sent via the U.S. Postal Service must be sent to: Marc Warman, USDA Rural Business-Cooperative Service, STOP 3252, 1400 Independence Ave., SW., Washington, DC 20250-3252. Applications sent via e-mail attachment must be sent to: marc.warman@usda.gov. Please note that due to recent security concerns, packages sent to the Agency have suffered significant delays. Entities wishing to apply for assistance should contact Marc Warman to receive further information and copies of the application package.

FOR FURTHER INFORMATION CONTACT: Jim Haskell, Acting Deputy Administrator, Rural Business-Cooperative Service, USDA, Stop 3250, Room 4016, 1400 Independence Ave., SW., Washington, DC 20250-3250, telephone: (202) 720-8460, or e-mail: james.haskell@usda.gov.

SUPPLEMENTARY INFORMATION:

Paperwork Reduction Act

Approval for the information collection requirements described in this Advance RFP was requested of the Office of Management and Budget (OMB) pursuant to a new collection request submitted before the publication of a related proposed rulemaking to provide for the policies and procedures relating, in part, to the agriculture innovation center demonstration program. This proposed regulation, and the related notice and request for comment on this information collection were published in the Federal Register on June 13, 2003, at 68 FR 35321 (“Proposed Rule”). An OMB control number would ordinarily be published concurrent with publication of the related final rule (“Final Rule”) after consideration of comments received in response to this paperwork notice. Accordingly, no OMB control number has been assigned at this time and the paperwork requirements included in this Advance RFP will not be effective until such time as the collection is approved and the control number assigned.

The deadline for the receipt of the application materials set forth in this RFP may not be earlier than the date the information collection is approved and the Final Rule is published. There is no guarantee that the information collection will be approved or that the related Final Rule will be published in time to obligate the funds available for Fiscal Year 2003.

In the event that a final rule has been promulgated and the information collect has been approved by awards cannot be made by September 30, 2003, it is USDA's intention that applications submitted after the effective date of the final rule will be held and considered for the award of Fiscal 2004 funds if and when Fiscal 2004 funds become available for this purpose.

Notice of Intent To Participate; Relationship Between This Advance RFP and the Proposed Rule

The policies and procedures proposed for this new demonstration program are outlined in the Proposed Rule. This Advance RFP must be read in conjunction with the Proposed Rule. Until such time as the policies and procedures are published as a final rule and the associated paperwork requirements are approved OMB, RBS may not accept applications.

Parties interested in applying under this program are encouraged, but not required, to send a notice of intent to participate to the Agency conforming to the suggested template provided at the end of this Advance RFP (“Notice of Intent”). Those who submit a Notice of Intent will be sent an e-mail or fax by the Agency when the Final Rule is published and the Agency will accept applications. Submission of a Notice of Intent does not obligate a prospective applicant to apply. If a prospective applicant elects to avail themselves of this courtesy notification, the Notice of Intent to participate must be e-mailed to marc.warman@usda.gov.

This Advance RFP calls for applications that meet the requirements published in the Proposed Rule and includes cross references to the Proposed Rule in order to minimize a duplication of published material. In the event the RBS is not able to timely obligate FY 2003 funds, applications received will be held for consideration for FY 2004 funding as and when available. It is not contemplated that a revised RFP will be issued for FY 2004 except as provided below. Only applications that are timely received in response to this Advance RFP will be eligible for either FY 2003 or FY 2004 funding, as applicable.

In the event the Agency is successful in making FY 2003 awards, and is later in a position to make FY 2004 awards, a new RFP will be issued for FY 2004 funding. Applications received in response to this Advance RFP will be held and considered for FY 2004 funding if and only if it is not possible to make timely FY 2003 awards.

Performance Criteria

The Proposed Rule contemplates that applicants will be asked to suggest performance goals against which the performance of their Centers and successes of their value added projects are to be measured. The Proposed Rule also sets forth evaluation criteria that are to be used in evaluating grant applications. It provides that a given RFP may supplement these evaluation criteria. In this Advance RFP, USDA has included one supplemental evaluation criterion. This evaluation criterion looks at the quality of the performance criteria suggested by the applicant for evaluating the success of the proposed Center. Criteria which are ambitious, readily quantifiable and reflect serious consideration and seriousness of purpose will result in more points scored than proposed performance criteria that are superficial, reflect little or no challenge, and do not incorporate variables that reflect value-added results.

Background

Section 6402 of the Farm Security and Rural Investment Act of 2002 (Pub. L. 107-171) (2002 Farm Bill) authorizes the Secretary of Agriculture to establish up to 10 agriculture innovation demonstration centers (Agriculture Innovation Centers or AICs) in Fiscal Year 2003. The purpose of these centers is to foster the ability of agricultural producers to reap the benefits of producing and marketing value-added products.

The Proposed Rule sets forth the proposed policies and procedures for this program. The Agency has elected not to wait until publication of a Final Rule before publishing this Advance RFP in order to alert potential applicants of the anticipated limited timing for the filing of application packages so as to maximize the possibility of awarding grants in FY 2003. While comments to the Proposed Rule may effect substantive changes to the final promulgated rule, it is the intention of this Advance RFP to give potential applicants as much lead time as possible to develop applications.

Restrictions on Awards

1. RBS will not make more than ten grant awards for FY 2003.

2. RBS will not make a grant to more than one entity in any one State.

3. A grant award may not exceed the lesser of $1,000,000 or twice the dollar amount (in cash or in kind) of the resources committed to the Center's operations apart from the program grant funds.

Evaluation Criteria and Weights

The reader is referred to the Proposed Rule for the proposed evaluation criteria listed there. Each criterion may be awarded up to five (5) points. This Advance Request for Proposals provides for the following, seventh, evaluation criterion:

Performance Criteria

Criteria suggested by the applicant pursuant to proposed § 4284.1009(c)(5)(v) that are ambitious, relevant and quantifiable and reflect serious consideration and seriousness of purpose will score more points than superficial performance criteria that reflect little or no challenge or that do not incorporate variables that reflect value-added results.

In the event of a tied score between two or more applications, the scores for the first individual criterion listed in the Proposed Rule will be compared, and the highest score for that individual criterion will break the tie. If the scores for the first criterion are tied, the scores for the second criterion will be compared, and so on.

Contents of Application Package

Under the Proposed Rule at § 4284.1009, applicants must file an original and one copy of the required forms and proposal.

Form of Submission

After the information collection has been approved by OMB and the Proposed Rule becomes final, applicants are encouraged, but not required, to submit applications and reports in electronic form. A complete, original application may be electronically sent as an e-mail attachment to marc.warman@usda.gov. If applications are submitted electronically, a signature page must be submitted via facsimile to the attention of Marc Warman at (202) 720-4641 or in hard copy to Marc Warman at the address provided at the beginning of this notice. Alternatively, an original application package plus one paper copy may be submitted to the addresses provided at the beginning of this notice.

Dated: July 25, 2003.
Thomas C. Dorr
Under Secretary, Rural Development.

Notice of Intent To Participate Suggested Template

Agriculture Innovation Center Grant Program

The undersigned hereby expresses interest in applying for an agriculture innovation center grant pursuant to the Request for Proposals published by the USDA Rural Business-Cooperative Service (RBS) for Fiscal Year 2003. The purpose of this notice is solely to facilitate courtesy communication from RBS regarding the publication timing of the anticipated Final Rulemaking related to the Agriculture Innovation Center Grant Program.

Applicant Entity:

Applicant Address:

Applicant Telephone:

Name of Individual Representative:

Title:

Firm (if different from the Applicant):

Address (if different than the Applicant):

The applicant must indicate the method by which notification will be sent and the complete address. Choose only one method. The Agency will not be responsible for any failure of the applicant to receive notifications sent by the selected method.

Telephone:

Email:

Fax number:

(Attention):

[FR Doc. 03-19618 Filed 7-31-03; 8:45 am]

BILLING CODE 3410-XY-Y